NUCLEAR REGULATORY COMMISSION

[Docket Nos. 50-250-LA and 50-251-LA; ASLBP No. 15-935-02-LA-BD01]

Atomic Safety and Licensing Board; In the Matter of Florida Power & Light Company (Turkey Point Nuclear Generating, Units 3 and 4); Notice and Order (Scheduling Oral Argument)

December 1, 2014.

Before Administrative Judges:

Michael M. Gibson, Chairman;

Dr. Michael F. Kennedy;

Dr. William W. Sager.

On October 14, 2014, petitioner Citizens Allied for Safe Energy, Inc. (CASE) filed a petition requesting a hearing on license amendments issued to the Florida Power & Light Company's (FPL) Turkey Point Nuclear Generating Units 3 and 4 that increased the ultimate heat sink water temperature limit for the plant's cooling canal system (CCS).¹ CASE's petition includes four proposed contentions, which read as follows:

¹ Citizens Allied for Safe Energy, Inc. Petition to Intervene and Request for a Hearing (Oct. 14, 2014).

Contention 1—The uprate of Turkey Point reactors 3 & 4 has been concurrent with alarming increases in salinity, temperature, tritium and chloride in the CCS area.

Contention 2—The exigent CCS problems started years before July, 2014 and were being addressed in 2013 and earlier.

Contention 3—The measures being used to control the CCS conditions are extraordinarily invasive, environmentally usurious and some untested.

Contention 4—The CCS is aging, old technology and FPL has no redundancy for Units 3 & 4 limiting corrective actions.²

² Id. at 5.

On November 10, 2014, the NRC Staff and FPL filed answers arguing that CASE fails to meet the NRC's standing and contention admissibility requirements.³ On November 17, 2014, CASE submitted a consolidated reply to the NRC Staff and FPL answers.⁴

³ NRC Staff's Answer to Citizens Allied for Safe Energy, Inc.'s Petition for Leave to Intervene and Request for Hearing (Nov. 10, 2014); FPL's Answer to Citizens Allied for Safe Energy, Inc.'s Petition to Intervene and Request for a Hearing (Nov. 10, 2014).

⁴ Citizens Allied for Safe Energy, Inc.'s Reply to FPL and to NRC Staff Answers to Its Petition to Intervene and Request for a Hearing (Nov. 17, 2014).

The Board hereby schedules an oral argument on standing and contention admissibility to be held on January 14, 2015, at the Hampton Inn and Suites, 2855 NE 9th Street, Homestead, FL 33033, in the Reef Room. The argument will commence at 9:00 a.m. EST. The Board anticipates that the argument will be completed by 5:00 p.m. EST on January 14. Only authorized representatives or counsel for CASE, FPL, and the NRC Staff who have entered written notice of appearance pursuant to 10 CFR 2.314(b) will be entitled to participate.

The sole purpose of the oral argument is to enable the Board to obtain the necessary factual and legal information to determine whether CASE has standing and whether its proffered contentions are admissible. Participants should be prepared to answer the Board's questions concerning all factual and legal issues raised in the pleadings. While this oral argument will be open to the public, no witnesses, other representatives of the parties, or members of the public will be heard during the argument.

It is so ordered.

Rockville, Maryland, December 1, 2014.
For the Atomic Safety and Licensing Board.
Michael M. Gibson,
Chairman, Administrative Judge.

[FR Doc. 2014-28606 Filed 12-5-14; 8:45 am]

BILLING CODE 7590-01-P